SECURITIES AND EXCHANGE COMMISSION

Sunshine Act Meeting

Notice is hereby given, pursuant to the provisions of the Government in the Sunshine Act, Public Law 94-409, that the Securities and Exchange Commission will hold an Open Meeting on Wednesday, June 25, 2014 at 10:00 a.m., in the Auditorium, Room L-002.

The subject matter of the Open Meeting will be:

The Commission will consider whether to adopt rules regarding the Application of “Security-based Swap Dealer” and “Major Security-based Swap Participant” Definitions to Cross-Border Security-Based Swap Activities under the Securities Exchange Act of 1934 and Title VII of the Dodd-Frank Wall Street Reform and Consumer Protection Act.

At times, changes in Commission priorities require alterations in the scheduling of meeting items.

For further information and to ascertain what, if any, matters have been added, deleted or postponed, please contact:

The Office of the Secretary at (202) 551-5400.

Dated: June 18, 2014.
Kevin M. O'Neill,
Deputy Secretary.

[FR Doc. 2014-14695 Filed 6-19-14; 4:15 pm]

BILLING CODE 8011-01-P